DEPARTMENT OF DEFENSE

Department of the Navy

Nominations for Membership on the Ocean Research and Resources Advisory Panel (ORRAP)

AGENCY: Department of the Navy, DoD.

ACTION: Notice.

SUMMARY: The Ocean Research and Resources Advisory Panel (ORRAP) is soliciting nominations for new members.

DATES: Nominations should be submitted no later than July 1, 2009.

ADDRESSES: Nominations should be submitted via e-mail to CDR D. Benjamin Reeder, U.S. Navy, at reederd@onr.navy.mil. Contact Information: Office of Naval Research, 875 North Randolph Street, Suite 1425, ATTN: ONR Code 322B Room 1075, Arlington, VA 22203, telephone (703) 696-4395.

FOR FURTHER INFORMATION CONTACT: Dr. Charles L. Vincent, Office of Naval Research, 875 North Randolph Street, Suite 1425, Arlington, VA 22203-1995, telephone (703) 696-4118.

SUPPLEMENTARY INFORMATION: ORRAP is a statutorily mandated Federal advisory committee that provides senior scientific advice to the National Oceanographic Research Leadership Council (NORLC), the governing body of the National Oceanographic Partnership Program (NOPP). ORRAP advises the NORLC on policies, procedures, selection of projects and allocation of funds, as well as other responsibilities that NORLC considers appropriate. NORLC conducts its business through the Interagency Committee on Ocean Science and Resource Management Integration (ICOSRMI), an equivalent governance body under the U.S. Ocean Action Plan. Hence, ORRAP advises ICOSRMI.

Panel Member Duties and Responsibilities: Members of the panel represent the National Academy of Sciences, the National Academy of Engineering, the Institute of Medicine, ocean industries, State governments, academia and others, including individuals who are eminent in the fields of marine science, marine policy, or related fields, including ocean resource management. Members are appointed for four year terms, and are not normally compensated except for travel expenses and per diem while away from their homes in performance of services for the panel.

The panel meets for at least one two-day public meeting per year, but possibly meets three times per year, on dates agreeable by the panel members; attendance at meetings is expected. Intercessional activities not involving formal decisions or recommendations may be carried out electronically, and the panel may establish sub-panels composed of less than full membership to carry out panel duties.

Nominations: Any interested person or organization may nominate qualified individuals (including one's self) for membership on the panel. Nominated individuals should have extended expertise and experience in the field of ocean science and/or ocean resource management. Nominations should be identified by name, occupation, position, address, telephone number, e-mail address, and a brief paragraph describing their qualifications in the context of the ORRAP Charter (http://www.nopp.org/Dev2Go.web?id=207773). Including a résumé or curriculum vitae is recommended.

Process and Deadline for Submitting Nominations: Submit nominations via e-mail to CDR D. Benjamin Reeder (reederd@onr.navy.mil) no later than July 1, 2009. From the nominees identified by respondents to this Federal Register Notice, the ORRAP Nomination Committee will down-select to a short-list of available candidates (150% of the available open positions for consideration). These selected candidates will be required to fill-out the “Confidential Financial Disclosure Report” OGE Form 450. This confidential form will allow Government officials to determine whether there is a statutory conflict between a person's public responsibilities and private interests and activities, or the appearance of a lack of impartiality, as defined by Federal regulation. The form and additional guidance may be viewed at: (http://www.usoge.gov/forms/oge450_pdf/oge450_automated.pdf).

In accordance with section 7903 of title 10, United States Code, the short-list of candidates will then be submitted for approval by the Secretary of the Navy. New candidates are expected to be selected with terms to begin in July 2010.

The selection of new panel members will be based on the nominee's qualifications to provide senior scientific advice to the NORLC; the availability of the potential panel member to fully participate in the panel meetings; absence of any conflict of interest or appearance of lack of impartiality, and lack of bias; the candidates' areas of expertise and professional qualifications; and achieving an overall balance of different perspectives and expertise on the panel.

Dated: June 5, 2009.
A.M. Vallandingham,
Lieutenant Commander, Judge Advocate General's Corps, U.S. Navy, Federal Register Liaison Officer.

[FR Doc. E9-13818 Filed 6-11-09; 8:45 am]

BILLING CODE 3810-FF-P